Title 3—

The President

Proclamation 8023 of May 23, 2006

Great Outdoors Month, 2006

By the President of the United States of America

A Proclamation

Great Outdoors Month is an opportunity to celebrate and experience America's natural splendor and renew our commitment to conserve our air, water, and land. During this month, we also honor the dedicated men and women who volunteer to help protect our natural resources.

Americans live amid many wonders of nature. Our Nation's varied landscapes include sandy beaches, expansive forests, emerald waters, and towering mountains. Through biking, swimming, skiing, hiking, and many other activities, Americans are enjoying our country's magnificent scenery and the healthy benefits of outdoor recreation.

To ensure that our natural heritage remains a source of pride for all our citizens, my Administration is committed to conserving America's public lands and natural resources and pursuing environmentally responsible initiatives. We are working to accelerate research into cleaner sources of energy, protect our water sources, and encourage the use of hybrid cars. We have put in place a series of clean air regulations that will help us to meet air quality standards. Through efforts like these, we will continue our Nation's economic growth and protect the environment.

Our citizens play an important role in protecting our natural spaces. Throughout our country, Americans are volunteering in their communities for environmental education programs, local parks, nature conservancies, and other stewardship opportunities. These devoted individuals are working to maintain park trails, restore wildlife habitats, plant trees, and clear overgrowth. I appreciate these volunteers for their efforts to keep America beautiful, and I encourage all Americans to demonstrate good stewardship and an appreciation for the outdoors. Individuals interested in volunteering can visit the Department of the Interior's Take Pride in America website at takepride.gov.

NOW, THEREFORE, I, GEORGE W. BUSH, President of the United States of America, by virtue of the authority vested in me by the Constitution and laws of the United States, do hereby proclaim June 2006 as Great Outdoors Month. I call on all Americans to observe this month with appropriate programs and activities and to spend time enjoying the outdoors.

IN WITNESS WHEREOF, I have hereunto set my hand this twenty-third day of May, in the year of our Lord two thousand six, and of the Independence of the United States of America the two hundred and thirtieth.

B

[FR Doc. 06-4949

Filed 5-25-06; 8:45 am]

Billing code 3195-01-P